DEPARTMENT OF AGRICULTURE

Animal and Plant Health Inspection Service

[Docket No. APHIS-2016-0011]

Notice of Decision To Authorize the Importation of Fresh Figs From Peru Into the Continental United States

AGENCY: Animal and Plant Health Inspection Service, USDA.

ACTION: Notice.

SUMMARY: We are advising the public of our decision to authorize the importation of fresh figs (Ficus carica) from Peru into the continental United States. Based on the findings of a pest risk analysis, which we made available for the public to review and comment through a previous notice, we have concluded that the application of designated phytosanitary measures will be sufficient to mitigate the risks of introducing or disseminating plant pests via the importation of fresh figs from Peru.

DATES: Effective August 10, 2016.

FOR FURTHER INFORMATION CONTACT: Ms. Claudia Ferguson, Senior Regulatory Policy Specialist, Regulatory Coordination and Compliance, Imports, Regulations, and Manuals, PPQ, APHIS, 4700 River Road, Unit 133, Riverdale, MD 20737-1231; (301) 851-2352; Claudia.Ferguson@aphis.usda.gov.

SUPPLEMENTARY INFORMATION: Under the regulations in “Subpart-Fruits and Vegetables” (7 CFR 319.56-1 through 319.56-75, referred to below as the regulations), the Animal and Plant Health Inspection Service (APHIS) prohibits or restricts the importation of fruits and vegetables into the United States from certain parts of the world to prevent plant pests from being introduced into or disseminated within the United States.

Section 319.56-4 contains a performance-based process for approving the importation of certain fruits and vegetables that, based on the findings of a pest risk analysis, can be safely imported subject to one or more of the designated phytosanitary measures listed in paragraph (b) of that section.

In accordance with that process, we published a notice ¹ in the Federal Register on March 14, 2016 (81 FR 13310-13311, Docket No. APHIS-2016-0011), in which we announced the availability, for review and comment, of a pest risk assessment (PRA) that identifies pests of quarantine significance that could follow the pathway of importation of figs from Peru into the continental United States. Based on the PRA, a risk management document (RMD) was prepared to identify phytosanitary measures that could be applied to the figs to mitigate the pest risk. The RMD recommended that all of the following phytosanitary measures be applied to the importation of figs from Peru into the continental United States:

¹ To view the notice, PRA, RMD, and comments we received, go to http://www.regulations.gov/#!docketDetail;D=APHIS-2016-0011.

• The figs must be imported as commercial consignments only;

• Each consignment of figs must be accompanied by a phytosanitary certificate issued by the national plant protection organization (NPPO) of Peru;

• Each consignment of figs must be treated in accordance with 7 CFR part 305; and

• Each consignment of figs is subject to inspection upon arrival at the port of entry to the United States.

We solicited comments on the PRA and RMD for 60 days, ending on May 13, 2016. We received four comments by that date, from a State department of agriculture, the Peruvian Government, the Peruvian embassy, and a U.S. port of entry.

Three of the commenters supported the importation of fresh figs from Peru into the continental United States.

One commenter pointed out that the notice would allow figs from Peru to be irradiated in the United States. The commenter expressed concern that this could present a risk of introducing quarantine pests that could follow the pathway of figs from Peru into the United States, and that such introduction would present a significant risk to States in which the pests could become established. For this reason, the commenter stated that irradiation should either have to take place in Peru or in areas of the United States north of the 39th parallel, in which the pests could not become established.

We appreciate the commenter's concern regarding irradiation of the figs in areas of the United States where quarantine plant pests that could potentially follow the pathway of importation of the figs from Peru could become established. Indeed, our regulations governing the approval of irradiation facilities in the United States, which are found in 7 CFR 305.9, require that, if an irradiation facility is located in a State where quarantine pests that are targeted by irradiation could become established, then it must take additional safeguards, specified within that section, in order to address this pest risk. However, because § 305.9 also allows irradiation treatment for imported commodities to take place within the United States, and does not preclude it from taking place in States where establishment of quarantine pests is possible, such as areas south of the 39th parallel, we cannot grant the commenter's request.

Therefore, in accordance with § 319.56-4(c)(2)(ii), we are announcing our decision to authorize the importation of figs from Peru into the continental United States subject to all of the following phytosanitary measures:

• The figs must be imported as commercial consignments only;

• Each consignment of figs must be accompanied by a phytosanitary certificate issued by the NPPO of Peru;

• Each consignment of figs must be treated in accordance with 7 CFR part 305; and

• Each consignment of figs is subject to inspection upon arrival at the port of entry to the United States.

These conditions will be listed in the Fruits and Vegetables Import Requirements database (available at http://www.aphis.usda.gov/favir/). In addition to these specific measures, figs from Peru will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 4th day of August, 2016.
Kevin Shea,
Administrator, Animal and Plant Health Inspection Service.

[FR Doc. 2016-18990 Filed 8-9-16; 8:45 am]

BILLING CODE 3410-34-P